DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and 30 CFR part 44 govern the application, processing, and disposition of petitions for modification. This notice is a summary of petitions for modification submitted to the Mine Safety and Health Administration (MSHA) by the parties listed below to modify the application of existing mandatory safety standards codified in Title 30 of the Code of Federal Regulations.

DATES: All comments on the petitions must be received by the Office of Standards, Regulations and Variances on or before September 16, 2011.

ADDRESSES: You may submit your comments, identified by “docket number” on the subject line, by any of the following methods:

1. Electronic Mail: zzMSHA-comments@dol.gov. Include the docket number of the petition in the subject line of the message.

2. Facsimile: 202-693-9441.

3. Regular Mail: MSHA, Office of Standards, Regulations and Variances, 1100 Wilson Boulevard, Room 2350, Arlington, Virginia 22209-3939, Attention: Roslyn B. Fontaine, Acting Director, Office of Standards, Regulations and Variances.

4. Hand-Delivery or Courier: MSHA, Office of Standards, Regulations and Variances, 1100 Wilson Boulevard, Room 2350, Arlington, Virginia 22209-3939, Attention: Roslyn B. Fontaine, Acting Director, Office of Standards, Regulations and Variances.

MSHA will consider only comments postmarked by the U.S. Postal Service or proof of delivery from another delivery service such as UPS or Federal Express on or before the deadline for comments. Individuals who submit comments by hand-delivery are required to check in at the receptionist's desk on the 21st floor.

Individuals may inspect copies of the petitions and comments during normal business hours at the address listed above.

FOR FURTHER INFORMATION CONTACT: Barbara Barron, Office of Standards, Regulations and Variances at 202-693-9447 (Voice), barron.barbara@dol.gov (E-mail), or 202-693-9441 (Facsimile). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) That the application of such standard to such mine will result in a diminution of safety to the miners in such mine. In addition, the regulations at 30 CFR 44.10 and 44.11 establish the requirements and procedures for filing petitions for modification.

II. Petitions for Modification

Docket Number: M-2011-022-C.

Petitioner: Sage Creek Coal Company, LLC, Three Gateway Center, Suite 1340, 401 Liberty Avenue, Pittsburgh, Pennsylvania 15222-1000.

Mine: Peabody Sage Creek Mine, MSHA Mine I.D. No. 05-04952, located in Routt County, Colorado.

Regulation Affected: 30 CFR 75.1909(b)(6) (Nonpermissible diesel-powered equipment; design and performance requirements.

Modification Request: The petitioner requests a modification of the existing standard to permit an alternative method of compliance with respect to the braking systems on a grader. The petitioner states that: (1) The petition is limited in application to the diesel motorgraders. (2) The maximum speed on the Diesel Motorgraders will be limited to 10 mph by: (a) permanently blocking out the gear(s) or any gear ratio(s) that provide higher speeds. The device will limit the vehicle speed in both forward and reverse; and (b) using transmission(s) and differential(s) geared in accordance with the equipment manufacturer which limits the maximum speed to 10 mph. (3) Prior to implementing the alternative method: (a) The diesel grader will be inspected by MSHA to determine compliance with the terms and conditions; (b) grader operators will be trained to recognize appropriate levels of speed for different road conditions and slopes; (c) grader operators will be trained to lower the moldboard (grader blade) to provide additional stopping capability in emergencies; and (d) grader operators will be trained to recognize the transmission gear blocking device and its proper application requirements. (4) The grader will comply with all other applicable requirements of the Federal Mine Safety and Health Act of 1977 and the applicable requirements of 30 CFR, parts 75 and 77. (5) Within 60 days after the proposed decision and order becomes final, the petitioner will submit proposed revisions for its approved 30 CFR part 48 training plan to the District Manager. These revisions will specify initial and refresher training regarding the terms and conditions stated in the petition. The proposed alternative method will at all times guarantee no less than the same measure of protection to all miners as would be provided by the standard.

Docket Number: M-2011-023-C.

Petitioner: Peabody Twentymile Mining LLC, Three Gateway Center, Suite 1340, 401 Liberty Avenue, Pittsburgh, Pennsylvania 15222-1000.

Mine: Foidel Creek Mine, MSHA Mine I.D. No. 05-03836, located in Routt County, Colorado.

Regulation Affected: 30 CFR 75.1909(b)(6) (Nonpermissible diesel-powered equipment; design and performance requirements).

Modification Request: The petitioner requests a modification of the existing standard to permit an alternative method of compliance with respect to the braking systems on a grader. The petitioner states that: (1) The petition is limited in application to the Diesel Motorgraders. (2) The maximum speed on the Diesel Motorgraders will be limited to 10 mph by: (a) permanently blocking out the gear(s) or any gear ratio(s) that provide higher speeds. The device will limit the vehicle speed in both forward and reverse; and (b) using transmission(s) and differential(s) geared in accordance with the equipment manufacturer which limits the maximum speed to 10 mph. (3) Prior to implementing the alternative method: (a) the diesel grader will be inspected by MSHA to determine compliance with the terms and conditions; (b) grader operators will be trained to recognize appropriate levels of speed for different road conditions and slopes; (c) grader operators will be trained to lower the moldboard (grader blade) to provide additional stopping capability in emergencies; and (d) grader operators will be trained to recognize the transmission gear blocking device and its proper application requirements. (4) The grader will comply with all other applicable requirements of the Federal Mine Safety and Health Act of 1977 and the applicable requirements of 30 CFR, Parts 75 and 77. (5) Within 60 days after the proposed decision and order becomes final, the petitioner will submit proposed revisions for its approved 30 CFR part 48 training plan to the District Manager. These revisions will specify initial and refresher training regarding the terms and conditions stated in the petition. The proposed alternative method will at all times guarantee no less than the same measure of protection to all miners as would be provided by the standard.

Docket Number: M-2011-005-M.

Petitioner: Troy Mine, Inc., P.O. Box 1660, Highway 56 South Mine Road, Troy, Montana 59935.

Mine: Troy Mine, MSHA Mine I.D. No. 24-01467, located in Lincoln County, Montana.

Regulation Affected: 30 CFR 57.11055 (Inclined escapeways).

Modification Request: The petitioner requests a modification of the existing standard to permit an alternative method of compliance to permit the use of a 317-foot portion of a designated secondary escapeway, which is steel-encased, with secure landings, and equipped with a leaky feeder communication system. The petitioner seeks a modification of the existing standard: (1) As it pertains to a secondary escapeway/raisebore from the C Bed to the Lower Quartzite area; (2) The secondary escapeway/raisebore from the C Bed to the Lower Quartzite area is 42 inches in diameter and steel-encased. The escapeway/raisebore from the C Bed to the Lower Quartzite area is equipped with a ladder and secure landings at least every 30 feet, in conformance with 30 CFR 57.11025. The secondary escapeway/raisebore from the C Bed to the Lower Quartzite area consists of two sections. The first section is 114 feet, and the second section is 317 feet. The first section begins at the C Bed and ends at the Upper C Bed. The second section begins at the Upper C Bed and ends at the Lower Quartzite area. Refer to Attachments A and B for diagrams of the area in question; (3) The mine proposes an alternative method of compliance with the existing standard, by installation of a leaky feeder communication system in the steel-encased secondary escapeway. The alternative method provides mines in the escapeway with continuous communication with the surface and will allow for notification that personnel are in the raise and on their way out. The leaky feeder system will be protected from damage due to steel encasement of the escapeway/raisebore. The steel encasement of the escapeway/raisebore will also prevent exposure to falling rock in the secondary escapeway to miners. The landings spaced at a maximum of 30 foot intervals are configured to provide protection to resting miners from falling down the escapeway; (4) In the alternative to compliance with the existing standard, the petitioner proposes to: (a) Install a leaky feeder communication cable in the secondary escapeway/raisebore from the C Bed to the Lower Quartzite area; (b) install radio boxes in the secondary escapeway/raisebore from the C Bed to the Lower Quartzite area. The radio boxes will each contain: (i) A radio; (ii) A charging station for the radio; and (iii) An extra battery for the radio; (c) within 45 days after the proposed decision and order becomes final, the petitioner will submit proposed revisions to the escape and evacuation plan as required in 30 CFR 57.11053; and (d) with 60 days after the proposed decision and order becomes final, the petitioner will submit proposed revisions of its approved 30 CFR part 48 training plan to the Metal/Nonmetal Safety and Health District Manager. In addition to the requirements specified, these proposed revisions will specify initial and refresher training regarding the terms and conditions stated in the proposed decision and order. The petitioner asserts that the proposed alternative method will at all times guarantee no less than the same measure of protection afforded by the existing standard.

Docket Number: M-2011-006-M.

Petitioner: Degerstrom Ventures, 3268 Blackfoot River Road, Soda Springs, Idaho 83276.

Mine: Enoch Valley Mine and South Rasmussen Mine, MSHA Mine I.D. No. 10-01702, located in Caribou County, Idaho.

Regulation Affected: 30 CFR 56.9300(a) (Berms or guardrails).

Modification Request: The petitioner requests a modification of the existing standard to permit the haul road to be used without berms or guardrails being provided or maintained on the banks of the roadway where a drop-off exists of sufficient grade or depth to cause a vehicle to overturn or endanger persons in equipment. The petitioner asserts that the addition of berms or guardrails to the haul road will add a substantial hazard to the safety of the haul trucks and will expose the operators of the trucks to an unnecessary, unsafe condition. The petitioner states that: (1) Its predecessor, Dravo Soda Springs, has previously obtained similar modification of 30 CFR 56.9300(a) on two previous occasions relating to other sections of the same roadway that applies to 8.6 miles of haul road covered by previous decision and orders as well as a new 3.1 mile section of roadway; and (2) The modification is needed because the mining operation is expected to be extended to a new site in the same vicinity, known as the Blackfoot Bridge Mine. The Record of Decision for the new proposed Blackfoot Bridge Mine was filed June 17, 2011, and will be covered under the same mine identification number as the Enoch Valley Mine and South Rasmussen Mine. The petitioner asserts that the use of berms or guardrails on the haul road will add a hazard to the safety of the haul trucks and will expose the operators of the trucks to unsafe conditions.

Dated: August 12, 2011.
Patricia W. Silvey,
Certifying Officer.

[FR Doc. 2011-20978 Filed 8-16-11; 8:45 am]

BILLING CODE 4510-43-P